DEPARTMENT OF COMMERCE

International Trade Administration

[A-475-828]

Stainless Steel Butt-Weld Pipe Fittings From Italy: Rescission of Antidumping Duty Administrative Review; 2020-2021

AGENCY: Enforcement and Compliance, International Trade Administration, Department of Commerce.

SUMMARY: The Department of Commerce (Commerce) is rescinding the administrative review of the antidumping duty order on stainless steel butt-weld pipe fittings from Italy for the period of review (POR) February 1, 2020, through January 31, 2021, based on the timely withdrawal of the request for review.

DATES: Applicable May 24, 2021.

FOR FURTHER INFORMATION CONTACT: Preston N. Cox, AD/CVD Operations, Office VI, Enforcement and Compliance, International Trade Administration, U.S. Department of Commerce, 1401 Constitution Avenue NW, Washington, DC 20230; telephone: (202) 482-5041.

SUPPLEMENTARY INFORMATION:

Background

On February 2, 2021, Commerce published in the Federal Register a notice of opportunity to request an administrative review of the antidumping duty order on stainless steel butt-weld pipe fittings from Italy for the period February 1, 2020, through January 31, 2021.¹ On February 26, 2021, Core Pipe Products, Inc. and Taylor Forge Stainless, Inc. (the petitioners) timely requested an administrative review of the antidumping duty order with respect to Filmag Italia, SpA (Filmag).² This request was in accordance with section 751(a) of the Tariff Act of 1930, as amended (the Act), and 19 CFR 351.213(b). Commerce received no other requests for an administrative review of the antidumping duty order for the POR.

¹ See Antidumping or Countervailing Duty Order, Finding, or Suspended Investigation; Opportunity to Request Administrative Review, 86 FR 7855 (February 2, 2021).

² See Petitioners' Letter, “Stainless Steel Butt-Weld Pipe Fittings from Italy—Petitioners' Request for 2020/2021 Administrative Review,” dated February 26, 2021.

On April 1, 2021, pursuant to section 751(a) of the Act and 19 CFR 351.221(c)(1)(i), Commerce initiated an administrative review of the antidumping duty order covering the POR with respect to Filmag.³ On April 16, 2021, the petitioners timely withdrew their request for administrative review with respect to Filmag.⁴

³ See Initiation of Antidumping and Countervailing Duty Administrative Reviews, 86 FR 17124 (April 1, 2021) (Initiation Notice).

⁴ See Petitioners' Letter, “Stainless Steel Butt-Weld Pipe Fittings from Italy—Petitioners' Withdrawal of Request for 2020/2021 Administrative Review,” dated April 16, 2021.

Rescission of Administrative Review

Pursuant to 19 CFR 351.213(d)(1), Commerce will rescind an administrative review, in whole or in part, if the parties that requested the review withdraw their requests within 90 days of the date of publication of the notice of initiation of the requested review. The petitioners withdrew their request for review within 90 days of the publication date of the Initiation Notice. No other parties requested an administrative review of the antidumping duty order. Therefore, in accordance with 19 CFR 351.213(d)(1), we are rescinding in its entirety the administrative review of the antidumping duty order on stainless steel butt-weld pipe fittings from Italy covering the period February 1, 2020, through January 31, 2021.

Assessment

Commerce will instruct U.S. Customs and Border Protection (CBP) to assess antidumping duties on all appropriate entries of stainless steel butt-weld pipe fittings from Italy during the POR. Antidumping duties shall be assessed at rates equal to the cash deposit rate of estimated antidumping duties required at the time of entry, or withdrawal from warehouse, for consumption, in accordance with 19 CFR 351.212(c)(1)(i). Commerce intends to issue appropriate assessment instructions to CBP no earlier than 35 days after the date of publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Orders

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751(a)(1) and 777(i)(1) of the Act, and 19 CFR 351.213(d)(4).

Dated: May 18, 2021.
James Maeder,
Deputy Assistant Secretary for Antidumping and Countervailing Duty Operations.

[FR Doc. 2021-10919 Filed 5-21-21; 8:45 am]

BILLING CODE 3510-DS-P